DEPARTMENT OF THE INTERIOR

Fish and Wildlife Service

Notice of Availability of the Final Comprehensive Conservation Plans and Finding of No Significant Impact for Edwin B. Forsythe and Cape May National Wildlife Refuges, the Jersey Coast Refuges

SUMMARY: This notice advises the public that the U.S. Fish and Wildlife Service has prepared Final Comprehensive Conservation Plans, an associated Environmental Assessment, and a Finding of No Significant Impact for both Edwin B. Forsythe and Cape May National Wildlife Refuges in New Jersey, collectively referred to as the Jersey Coast Refuges. These documents were prepared in compliance with the National Wildlife Refuge System Improvement Act of 1997, and the National Environmental Policy Act of 1969 and its implementing regulations.

The Acting Regional Director, Northeast Regional Office, in making his decision considered a reasonable range of three management alternatives discussed in the Environmental Assessment. The three alternatives were:

Alternative A. This was the No Action Alternative requirement by the Council of Environmental Quality's regulations on the implementation of the National Environmental Policy Act. Under this Alternative there would be no change from our current management programs and emphasis at both Refuges. Seasonal travel and parking of motor vehicles would continue to be allowed in the Holgate Unit of the Brigantine Wilderness Area, on lands above mean high tide, in violation of the Wilderness Act of 1964. The beach at the Two Mile Beach Unit would continue to be closed to access by the public.

Alternative B. This was the Service's Proposed Action. This Alternative would initiate new wildlife population and habitat management programs; provide new wildlife-dependent recreation opportunities; increase our land protection efforts; and provide new office and visitor facilities at both Refuges. All lands above mean high tide in the Holgate Unit of the Brigantine Wilderness Area would be closed to motor vehicles by the public year-round in compliance with the Wilderness Act. We would initiate efforts to establish a seasonal boat concession to ferry anglers and other Refuge visitors to the southern tip of the Holgate Peninsula. The beach at the Two Mile Beach Unit would be open to seasonal access by the public.

Alternative C. This Alternative would initiate new wildlife population and habitat management programs; provide new wildlife-dependent recreation opportunities Refuge-wide; increase our land protection efforts; and provide new or remodeled office and visitor facilities at both Refuges. All lands above mean high tide in the Holgate Unit of the Brigantine Wilderness Area would be closed to motor vehicle access by the public year-round in compliance with the Wilderness Act. We would also seek to further restrict motor vehicle access at the Holgate Unit by obtaining a license from the New Jersey Tidelands Council to close State-owned riparian lands below the mean high line. We would initiate efforts to establish a seasonal boat concession to ferry anglers and other Refuge visitors to the southern tip of the Holgate Peninsula. The beach at the Two Mile Beach Unit would be open year-round to access by the public.

Based on the analysis provided in the Environmental Assessment and the comments received from the public, the Acting Regional Director selected Alternative B (the Service's Proposed Action) to be enacted on the Refuges.

Alternative B was selected because it best achieves Refuge purposes, vision and goals; helps fulfill the mission of the National Wildlife Refuge System; maintains and, where appropriate, restores the ecological integrity of both Refuges and the Refuge System; addresses the significant issues and mandates; and is consistent with the principles of sound fish and wildlife management.

Based on his evaluation, the Acting Regional Director determined that the implementation of Alternative B would not have a significant impact on the quality of the human environment in accordance with Section 102(2)(c) of the National Environmental Policy Act and concluded that an environmental impact statement is not required. However, since the proposed closure of the Holgate Unit of the Brigantine Wilderness Area to motor vehicle use by the public above mean high tide has been highly controversial, he decided to provide a 30-day public review period for this period for this Finding of No Significant Impact prior to signing it. The public review period will end 30 days after this Notice is published. This public review period is in compliance with Council of Environmental Quality Regulation 1501.4(e)(2).

FOR FURTHER INFORMATION CONTACT: Copies of either Refuge Comprehensive Conservation Plan, or the Finding of No Significant Impact, may be obtained by contacting: Mr. Stephen Atzert, Refuge Manager, Ediwn B. Forsythe National Wildlife Refuge, P.O. Box 72, Great Creek Road, Oceanville, NJ 08231.

SUPPLEMENTARY INFORMATION: The National Wildlife Refuge System Improvement Act of 1997 and Service policy require that all lands within the National Wildlife Refuge System be managed in accordance with an approved refuge Comprehensive Conservation Plan. The Plan guides management decisions and identifies refuge goals, objectives, and strategies for achieving refuge purposes. The Service's planning process considered many elements, including habitat and wildlife management, habitat protection and land acquisition, wildlife-dependent recreational uses, and cultural resources. Public input into the planning process also assisted in the development of the Refuge Comprehensive Conservation Plans, Environmental Assessment, and Finding of No Significant Impact. The Plans will provide other agencies and the public with a clear understanding of the desired conditions for the Refuges and how the Service will implement its management strategies.

Dated: January 25, 2001.
G. Adam O'Hara,
Acting Regional Director, U.S. Fish and Wildlife Service, Hadley, Massachusetts.

[FR Doc. 01-3691 Filed 2-13-01; 8:45 am]

BILLING CODE 4310-55-M